DEPARTMENT OF JUSTICE

Immigration and Naturalization Service

[INS No. 2079-00; AG Order No. 2321-2000]

RIN 1115-AE 26

Termination of Bosnia-Herzegovina Under the Temporary Protected Status Program

AGENCY: Immigration and Naturalization Service, Justice.

ACTION: Notice.

SUMMARY: The Attorney General's designation of Bosnia-Herzegovina for Temporary Protected Status (TPS) expires on August 10, 2000. After reviewing country conditions and consulting with the appropriate Government agencies, the Attorney General has determined that conditions in Bosnia-Herzegovina no longer support TPS designation. However, because this determination was not made at least 60 days before the termination date, the designation of Bosnia-Herzegovina for TPS is automatically extended for a period of 6 months, valid until February 10, 2001. The termination of the TPS designation of Bosnia-Herzegovina will therefore take effect on February 10, 2001. After that date, aliens who are nationals of Bosnia-Herzegovina (and aliens having no nationality who last habitually resided in Bosnia-Herzegovina) who have been granted TPS under the Bosnia-Herzegovina designation will no longer possess such status. This notice contains information regarding the 6-month extension and subsequent termination of the TPS designation for Bosnia-Herzegovina.

DATES: The TPS designation for Bosnia-Herzegovina is extended until February 10, 2001. On February 10, 2001, the TPS designation for Bosnia-Herzegovina will be terminated. The re-registration period for the default 6-month extension begins August 30, 2000 and ends September 29, 2000.

FOR FURTHER INFORMATION CONTACT: Michael Valverde, Adjudications Officer, Office of Adjudications, Immigration and Naturalization Service, Room 3040, 425 I Street, NW., Washington, DC 20536, telephone (202) 514-4754.

SUPPLEMENTARY INFORMATION:

What Is the Statutory Authority for the Designation and Termination of TPS?

Under section 244 of the Immigration and Nationality Act (Act), 8 U.S.C. 1254a, the Attorney General is authorized to designate a foreign state (or part of a state for TPS. The Attorney General may then grant TPS to eligible nationals of that foreign state (or aliens having no nationality who last habitually resided in that state). Section 244(b)(3)(A) of the Act requires the Attorney General to review, at least 60 days before the end of the TPS designation, the conditions in a foreign state designated under section 244(b)(1) of the Act. 8 U.S.C. 1254a(b)(3)(A).

Section 244(b)(3) of the Act further requires the Attorney General to determine whether the conditions for such a designation continue to be met and to terminate the state's designation when the Attorney General determines conditions are no longer met. 8 U.S.C. 1254a(b)(3)(A), (B). The Attorney General must then publish a notice of termination in the Federal Register. If the Attorney General fails to make the determination required by section 244(b)(3)(A) of the Act at least 60 days before the end of the period of designation, then the designation is automatically extended for an additional period of 6 months. 8 U.S.C. 1254a(b)(3)(C).

Why Did the Attorney General Decide To Terminate TPS for Bosnia-Herzegovina?

On August 11, 1999, the Attorney General published a notice in the Federal Register extending TPS for Bosnia-Herzegovina for a period of 1 year, based upon conditions in Bosnia-Herzegovina at that time. 64 FR 43720 (Aug. 11, 1999). That TPS designation is scheduled to expire on August 10, 2000.

Based upon a more recent review of conditions within Bosnia-Herzegovina by the Departments of Justice and State, the Attorney General finds that conditions no longer support a TPS designation. Since June 10, 1999, when Serb forces withdrew from northern Kosovo and the North Atlantic Treaty Organization suspended its airstrikes, Bosnia-Herzegovina has been relatively peaceful, with the exception of occasional and isolated outbreaks of violence. In addition, major infrastructure improvements have recently begun in Bosnia-Herzegovina and democratic elections are planned for later this year.

A Department of State memorandum concerning Bosnia-Herzegovina states that, “Bosnia and Herzegovina is now experiencing unprecedented spontaneous return of its nationals (of all three ethnic groups) from neighboring countries. This spontaneous return suggests that large and increasing numbers of Bosnians themselves have concluded that it is safe enough to return.”

Based on these findings, the Attorney General has decided to terminate the designation of Bosnia-Herzegovina for TPS. However, since the Attorney General did not make this determination at least 60 days before the end of the current designation, the designation is automatically extended by section 244(b)(3)(C) of the Act for an additional 6 months. The termination will therefore take effect at the end of the 6-month extension.

If I Currently Have TPS, how do I Register for the 6-Month Extension?

Persons previously granted TPS under the Bosnia-Herzegovina designation may apply for the 6-month extension by filing the Form I-821, Application for Temporary Protected Status, without the fee, during the re-registration period that begins August 30, 2000 and ends September 29, 2000. Additionally, those applying must file the Form I-765, Application for Employment Authorization. See the chart below to determine whether or not you must submit the $100 filing fee with the Form I-765.

If— | Then—
You are applying for employment authorization through February 10, 2001 | You must complete and file the Form I-765, Application for Employment Authorization, with the one-hundred dollar ($100) fee.
You already have employment authorization or do not require employment authorization | You must complete and file the Form I-765 with no fee.
You are applying for employment authorization and are requesting a fee waiver | You must complete and file the Form I-765, a fee waiver request, and the requisite affidavit (and any other information), in accordance with 8 CFR 244.20.

To re-register for TPS, you must also include two identification photographs (1½″ × 1½″).

Is Late Registration Possible?

Yes, in addition to timely re-registration, late initial registration is possible for some persons from Bosnia-Herzegovina under 8 CFR 244.2(f)(2).

What Are the Requirements for Late Initial Registration?

To apply for late initial registration an applicant must:

• Be a national of Bosnia-Herzegovina (or an alien having no nationality who last habitually resided in Bosnia-Herzegovina);

• Have been continuously physically present in the United States since August 10, 1992;

• Have continuously resided in the United States since August 10, 1992; and

• Be admissible as an immigrant, except as otherwise provided in section 244(c) of the Act.

Additionally, the applicant for late initial registration must be able to demonstrate that, during the initial registration period, he or she:

• Was a nonimmigrant, or was granted voluntary departure or any relief from removal;

• Had an application for change of status, adjustment of status, asylum, voluntary departure, or any relief from removal pending or subject to further review;

• Was a parolee or had a pending request for reparole; or

• Is the spouse or child of an alien currently eligible to be a TPS registrant.

An applicant for late initial registration must register no later than 60 days from the expiration or termination of the qualifying condition.

Where Should I File for an Extension of TPS?

You may register for the extension of TPS by submitting an application and accompanying materials to the Immigration and Naturalization Service's local office that has jurisdiction over your place of residence.

When can I File for an Extension of TPS?

The 30-day re-registration period begins August 30, 2000, and will remain in effect until September 29, 2000.

What Can I do if I Feel that my Return to Bosnia-Herzegovina is unsafe?

There may be other avenues of immigration protection or relief available to aliens who are nationals of Bosnia-Herzegovina (and aliens having no nationality who last habitually resided in Bosnia-Herzegovina) in the United States who believe that their particular circumstances make return to Bosnia-Herzegovina unsafe. Such avenues may include, but are not limited to, asylum or withholding or removal.

How Does the Termination of TPS Affect Former TPS Beneficiaries?

After the designation of Bosnia-Herzegovina for TPS is terminated on February 10, 2001, those aliens who are nationals of Bosnia-Herzegovina (and aliens having no nationality who last habitually resided in Bosnia-Herzegovina) will revert back to the immigration status they had prior to TPS, unless they have been granted another immigration status. The stay of removal and eligibility for employment authorization due to the designation of Bosnia-Herzegovina for TPS will no longer be available. The termination of the TPS designation for Bosnia-Herzegovina, however, will not affect any pending applications for other forms of immigration relief.

Those persons who were granted TPS under the Bosnia-Herzegovina designation may begin accruing unlawful presence as of February 10, 2001, if they have not been granted any other immigration benefit or have no application for such a benefit pending. Aliens who accrue certain periods of unlawful presence in the United States may be barred from admission to the United States under section 212(a)(9)(B)(i) of the Act. See 8 U.S.C. 1182(a)(9)(B)(i).

Notice of 6-month Extension and Termination of Designation of Bosnia-Herzegovina Under the TPS Program

By the authority vested in me as Attorney General under section 244(b)(3) of the Act, I have consulted with the appropriate agencies of Government concerning conflict and security conditions in Bosnia-Herzegovina. 8 U.S.C. 1254a(b)(3). Based on these consultations, I have determined that Bosnia-Herzegovina no longer meets the conditions for designation of TPS under section 233(b)(1) of the Act. See 8 U.S.C. 1254a(b)(1).

I understand that, although Bosnia-Herzegovina is still rebuilding from the war, persons can return to Bosnia-Herzegovina in safety. In view of the recommendations of the Departments of Justice and State for termination, I terminate the designation of Bosnia-Herzegovina under the TPS program. However, Since I did not make this determination at least 60 days before the expiration of the designation, the designation is automatically extended for 6 months, until February 10, 2001.

Accordingly, I order as follows:

(1) The designation of Bosnia-Herzegovina for TPS under section 244(b) of the Act is terminated effective February 10, 2001.

(2) I estimate that there are no more than 400 nationals of Bosnia-Herzegovina (and aliens having no nationality who last habitually resided in Bosnia-Herzegovina) who have been previously granted TPS.

(3) Information concerning the termination of the TPS program for nationals of Bosnia-Herzegovina (and aliens having no nationality who last habitually resided in Bosnia-Herzegovina) will be available at local Service offices upon publication of this notice or at the Service's website at http://www.ins.usdoj.gov.

Dated: August 23, 2000.
Janet Reno,
Attorney General.

[FR Doc. 00-22138 Filed 8-29-00; 8:45 am]

BILLING CODE 4410-10-M